DEPARTMENT OF THE INTERIOR

National Park Service

Notice of Availability of the Final General Management Plan and Final Environmental Impact Statement for Wilson's Creek National Battlefield, MO

AGENCY: National Park Service, Interior.

SUMMARY: Pursuant to section 102(2) of the National Environmental Policy Act (NEPA) of 1969, the National Park Service (NPS) announces the availability of the final general management plan and environmental impact (GMP/EIS) for Wilson's Creek National Battlefield, Missouri (WICR). This notice is being furnished as required by NEPA Regulations 40 CFR 1501.7.

DATES: The required no-action period on this final GMP/EIS will expire 30 days after the Environmental Protection Agency has published a notice of availability of the final GMP/EIS in the Federal Register.

ADDRESSES: Copies of the Final GMP/EIS are available from the Acting Superintendent, Wilson's Creek National Battlefield, 6424 West Farm Road 182, Republic, Missouri 65738-9514. The phone number is 417-732-2662 and the fax number is 417-732-1167.

SUPPLEMENTARY INFORMATION: The purpose of the general management plan is to set forth the basic management philosophy for WICR and to provide the strategies for addressing issues and achieving identified management objectives. The final GMP/EIS describes and analyzes the environmental impacts of two action alternatives. A no action alternative is also evaluated. The draft GMP/EIS for WICR was released to the public on June 21, 2002. The public comment period ended August 20, 2002.

Although 84 reviewers submitted written comments on the draft GMP/EIS, no substantive comments were received. Of those responding, 43, or slightly over 50 percent, expressed a preference for a particular alternative. Of that number, 36 reviewers, or nearly 90 percent, expressed their support for alternative B, Wilson's Creek Battlefield Commemoration, the preferred alternative. Many of the remaining reviewers expressed support for enhancement of the battlefield landscape, and the expanded commemoration and interpretation of the Battle of Wilson's Creek. However, many also expressed concern that future park management would eliminate or severely limit recreational opportunities. Recreational use will continue to be allowed but will be managed so as not to conflict with the core mission of the park or the primary visitor experience.

The responsible official is Mr. Ernest Quintana, Acting Midwest Regional Director, NPS.

Dated: April 18, 2003.
Ernest Quintana,
Acting Regional Director, Midwest Region.

[FR Doc. 03-14314 Filed 6-5-03; 8:45 am]

BILLING CODE 4310-70-P